DEPARTMENT OF DEFENSE

Department of the Army, Corps of Engineers

Intent To Prepare a Draft Feasibility Report and Environmental Impact Statement for the Buffalo Bayou and Tributaries, Texas Resiliency Study

AGENCY: Department of the Army, U.S. Army Corps of Engineers, DoD.

ACTION: Notice of Intent.

SUMMARY: Pursuant to the National Environmental Policy Act of 1969 (NEPA), as amended, the U.S. Army Corps of Engineers, Galveston District (USACE) intends to prepare an Environmental Impact Statement (EIS) for the Buffalo Bayou and Tributaries, Texas Resiliency Study (BBTRS). The study will identify and evaluate the feasibility of reducing flood risks on Buffalo Bayou in Harris and Fort Bend Counties, Texas. The study will also complete a Dam Safety Modification Study (DSMS) on the Addicks and Barker Dams. This notice announces USACE's intent to determine the scope of the issues to be addressed and identify the significant issues related to a proposed action.

ADDRESSES: Pertinent information about the study can be found at: https://www.swg.usace.army.mil/Missions/Projects/Buffalo-Bayou-and-Tributaries-Resiliency-Study/.

Questions or comments about the proposed action or requests to be added to the project mailing list can be emailed to BBTRS@usace.army.mil or mailed to USACE, Galveston District, Attn: BBTRS, P.O. Box 1229, Galveston, TX 77553-1229.

FOR FURTHER INFORMATION CONTACT: Galveston District Public Affairs Office at 409-766-3004 or swgpao@usace.army.mil.

SUPPLEMENTARY INFORMATION:

1. Authority. The Buffalo Bayou and Tributaries Resiliency Study (BBTRS) is authorized under Section 216 of the Flood Control Act of 1970 (Pub. L. 91-611) and existing project authority. Section 216 authorizes USACE to review a completed navigation, flood risk reduction, water supply, or related project due to significantly changed physical or economic conditions, and to report to Congress with recommendations regarding modification of the project's structures or operation, and for improving the quality of the environment in the overall public interest. The Bipartisan Budget Act of 2018 (Pub. L. 115-123) funded the study as a new start. The study phase is 100% federally funded.

2. Background. USACE, in partnership with the Harris County Flood Control District (HCFCD), as the non-Federal sponsor, is undertaking the study to evaluate the feasibility of reducing flood risks on Buffalo Bayou upstream and downstream of Addicks and Barker Reservoirs.

The Buffalo Bayou and Tributaries, Texas Project (Project) was authorized by Congress in the 1930s for the purpose of providing flood control for the city and port of Houston, Texas. In the 1940s, Addicks and Barker Dams were constructed and a portion of Buffalo Bayou was straightened as part of the completed Project. Since the 1940s, a number of physical improvements and operational changes to the Project have been implemented. However, the watershed continues to experience major flood events, with the most recent and most significant occurring during Hurricane Harvey in 2017. These recent flood events, coupled with projected increases in precipitation patterns and the potential for flooding events in the future, warrant investigation into whether the Project should be modified to address existing and future flooding concerns.

The first purpose of this study is to examine alternatives to reduce potential flooding in three watersheds (Addicks Reservoir, Barker Reservoir, and Buffalo Bayou Watersheds) and consider impacts to/from a portion of Cypress Creek, Brays Bayou and White Oak Bayou watersheds. The main flooding risks being evaluated are upstream and downstream of Addicks and Barker Reservoirs and along Buffalo Bayou. Buffalo Bayou flows 32 miles from Barker Reservoir in far west Harris County to the Turning Basin of the Houston Ship Channel. The bayou provides the main drainage conduit for central Houston as it winds through the heart of Houston, past neighborhoods, parks, office towers, and industrial areas, before it joins with White Oak Bayou just north of Houston's central business district.

The second purpose of this study is to evaluate dam safety concerns at Addicks and Barker Dams and examine alternatives to address the concerns. The dams have been previously evaluated through the Dam Safety Program and both dams have been assigned a Dam Safety Action Classification (DSAC) I rating. The DSAC I rating means the combination of life or economic consequences with probability of failure is extremely high. In response to this rating, a Dam Safety Modification Study (DSMS) was undertaken. Phase 1 of the DSMS, which addressed the highest risk concerns, was analyzed in a report completed in 2013. Modifications recommended by that report are currently under construction with an anticipated completion date in February 2020. The BBTRS will complete Phase 2 of the DSMS, and address remaining concerns identified in Phase 1.

3. Alternatives. The study will evaluate alternatives that would modify the existing Project to more efficiently and effectively convey water throughout the system and reduce the flooding risk, as well as measures that would address the remaining dam safety concerns. A No Action Alternative is also being considered. A number of structural measures are being considered including but not limited to: Tunnels, bypass channels, new reservoirs, detention ponds, dredging of existing detention ponds and reservoirs, and spillway modifications. Non-structural measures, such as operational changes and property acquisition, are also being considered. The study will evaluate potential benefits and impacts of the reasonable array of alternatives including direct, indirect and cumulative effects to the human and natural environments that balance the interests of flood damage reduction and environmental impacts.

4. Public Participation. Scoping completed prior to and after publication of this NOI will be used to develop the EIS. The scoping comment period began on April 27, 2019, and will end 30 days after publication of this notice. All comments received during the scoping period are being used to identify additional measures and alternatives, significant resources, and impacts that should be considered in the EIS. Additional comments received outside the scoping period will be considered prior to the Draft EIS public review period, to the extent possible. For comments that cannot be addressed prior to the public review period, the comments will be included with the public review period comments and addressed at that time. No public meetings are scheduled.

Between April 30 and May 9, 2019, USACE and HCFCD hosted five Public Scoping Meetings—three meetings were held near Buffalo Bayou downstream of the reservoirs and two meetings were held upstream of the reservoirs. A Public Notice was published on the Galveston District website and in the Legal Notices section of the Houston Chronicle. Public news releases announcing the scoping period timeframe; public meeting dates, times, and locations; and where to send comments were published in the appropriate local newspapers, on the Galveston District and HCFCD websites, and were distributed to the local stakeholders and known interested parties.

5. Coordination. USACE will serve as the lead Federal agency in the preparation of the EIS. Other Federal and state agencies have been invited to participate throughout the study process as Coordinating or Participating Agencies. Further coordination with environmental agencies will be conducted under the NEPA, the Fish and Wildlife Coordination Act, the Endangered Species Act, the Clean Water Act, the Clean Air Act, the National Historic and Preservation Act, the Magnuson-Stevens Fishery Conservation and Management Act, and the Coastal Zone Management Act.

6. Availability of Draft EIS. USACE currently estimates that the Draft EIS will be available for public review and comment in or around late Spring or early Summer 2020. At that time, USACE will provide a 45-day public review period for individuals and agencies to review and comment. USACE will notify all interested agencies, organizations, and individuals of the availability of the draft document at that time.

Paul E. Owen,
Brigadier General, USA Commanding.

[FR Doc. 2019-27766 Filed 12-26-19; 8:45 am]

BILLING CODE 3720-58-P